OFFICE OF PERSONNEL MANAGEMENT

Proposed Collection; Comment Request for Information Collection: SF-15 Application for 10-Point Veteran Preference

AGENCY: Office of Personnel Management.

ACTION: Notice.

SUMMARY: In accordance with the Paperwork Reduction Act of 1995 (Pub. L. 104-13, May 22, 1995), this notice announces that the Office of Personnel Management (OPM) plans to submit to the Office of Management and Budget (OMB) a request for clearance of an expiring information collection, Standard Form (SF) 15, Application for 10-Point Veteran Preference. The Application for 10-Point Veteran Preference (SF 15) is used by agencies, OPM examining offices, and agency appointing officials to adjudicate individuals' claims for veterans' preference in accordance with the Veterans' Preference Act of 1944.

Approximately 11,252 forms are completed annually. Each form takes approximately 10 minutes to complete. The annual estimated burden is 1,875 hours.

OPM invites comments on: whether this information is necessary for OPM to properly perform its functions; whether the information will have practical utility; whether OPM's estimate of the public burden of this collection of information is accurate and based on valid assumptions and methodology; and ways in which OPM can minimize the burden of the collection of information on those who are to respond, through the use of appropriate technological collection techniques or other forms of information technology.

DATES: We will consider comments received on or before 60 calendar days from the date of this publication: January 26, 2007.

For copies of this proposal, contact Mary Beth Smith-Toomey on (202) 606-8358, Fax (202) 418-3251 or e-mail to mbtoomey@opm.gov. Please be sure to include a mailing address with your request.

ADDRESSES: Send or deliver written comments to: Mark E. Doboga, Deputy Associate Director, Center for Talent and Capacity, U.S. Office of Personnel Management, 1900 E. Street, NW., Room 6551, Washington, DC 20415.

For Administrative Coordination Contact: Scott A. Wilander by telephone at (202) 606-0960; by fax at (202) 606-0390; TTY at (202) 606-3134; or by e-mail at sxwilander@opm.gov.

Office of Personnel Management.
Tricia Hollis,
Chief of Staff, & Director of External Affairs.

[FR Doc. E7-1221 Filed 1-25-07; 8:45 am]

BILLING CODE 6325-39-P